DEPARTMENT OF HOMELAND SECURITY

Directorate of Science and Technology; Notice of Meeting of Homeland Security Science and Technology Advisory Committee

AGENCY: Office of the Under Secretary for Science and Technology, DHS.

ACTION: Notice.

SUMMARY: The Homeland Security Science and Technology Advisory Committee (HSSTAC) will meet in closed session at the Lawrence Livermore National Laboratory, Livermore, CA, on August 31-September 1, 2004.

DATES: The meeting dates are August 31, 2004 and September 1, 2004.

ADDRESSES: The meeting location is Lawrence Livermore National Laboratory, 7000 East Avenue, Livermore, CA 94550-9234.

FOR FURTHER INFORMATION CONTACT: Brenda Leckey, Homeland Security Science and Technology Advisory Committee, Department of Homeland Security, Directorate of Science and Technology, Washington, DC 20528; telephone 202-254-5721; e-mail HSSTAC@dhs.gov.

SUPPLEMENTARY INFORMATION: Notice of this meeting is given under the Federal Advisory Committee Act (FACA), Pub. L. 92-463, as amended (5 U.S.C. App.2). The HSSTAC will meet for purposes of receiving briefings and examining initiatives and activities at various national laboratories. HSSTAC will be obtaining perspectives from these Homeland Security Research and Development (R&D) performers of what they do, what needs to be done, and any special insights they have as to how the Department of Homeland Security Science & Technology Directorate could better access, utilize and/or develop R&D capabilities. HSSTAC will also be receiving briefings and reviewing subcommittee progress reports and determining future actions. In accordance with section 10(d) of the Federal Advisory Committee Act, Pub. L. 92-463, as amended (5 U.S.C. App. 2), the Under Secretary for Science and Technology has determined that this HSSTAC meeting will concern classified and sensitive matters to homeland security within the meaning of 5 U.S.C. 552b(c)(1)(a) and (c)(9)(B) and that, accordingly, the meeting will be closed to the public.

Dated: August 12, 2004.
Charles E. McQueary,
Under Secretary for Science and Technology.

[FR Doc. 04-18817 Filed 8-16-04; 8:45 am]

BILLING CODE 4410-10-P